SOCIAL SECURITY ADMINISTRATION

[Docket No. SSA-2019-0025]

Privacy Act of 1974; Matching Program

AGENCY: Social Security Administration (SSA).

ACTION: Notice of a new matching program.

SUMMARY: In accordance with the provisions of the Privacy Act, as amended, this notice announces a new matching program with the Department of Homeland Security (DHS).

This computer matching agreement sets forth the terms, conditions, and safeguards under which DHS will disclose information to SSA in order to identify aliens who leave the United States voluntarily and aliens who are removed from the United States. These aliens may be subject to suspension of payments or nonpayment of benefits or both, and recovery of overpayments. SSA will use DHS data to determine if suspension of payments, nonpayments of benefits, or recovery of overpayments, is applicable.

DATES: The deadline to submit comments on the proposed matching program is 30 days from the date of publication of this notice in the Federal Register. The matching program will be applicable on January 19, 2020, or once a minimum of 30 days after publication of this notice have elapsed, whichever is later. The matching program will be in effect for a period of 18 months.

ADDRESSES: Interested parties may comment on this notice by either telefaxing to (410) 966-0869, writing to Matthew Ramsey, Executive Director, Office of Privacy and Disclosure, Office of the General Counsel, Social Security Administration, G-401 WHR, 6401 Security Boulevard, Baltimore, MD 21235-6401, or emailing Matthew.Ramsey@ssa.gov. All comments received will be available for public inspection by contacting Mr. Ramsey this street address.

FOR FURTHER INFORMATION CONTACT: Interested parties may submit general questions about the matching program to Norma Followell, Supervisory Team Lead, Office of Privacy and Disclosure, Office of the General Counsel, Social Security Administration, Room, G-401 WHR, 6401 Security Boulevard, Baltimore, MD 21235-6401, Telephone: (410) 966-5855, or send an email to Norma.Followell@ssa.gov.

SUPPLEMENTARY INFORMATION: None.

Matthew Ramsey,
Executive Director, Office of Privacy and Disclosure, Office of the General Counsel.

Participating Agencies

SSA and DHS.

Authority for Conducting the Matching Program

The legal authority for the disclosures under this agreement are 42 United States Code (U.S.C.) 402(n), 1382(f), 1382c(a)(1), and 1383(e)(1)(B) and (f), and 8 U.S.C. 1611 and 1612.

Section 1631(e)(1)(B) of the Social Security Act (Act) (42 U.S.C. 1383(e)(1)(B)) requires SSA to verify declarations of applicants for and recipients of Supplemental Security Income (SSI) payments before making a determination of eligibility or payment amount. Section 1631(f) of the Act (42 U.S.C. 1383(f)) requires Federal agencies to provide SSA with information necessary to verify SSI eligibility, benefit amounts and to verify other information related to these determinations. Section 202(n)(1) of the Act (42 U.S.C. 402(n)) requires the Secretary of Homeland Security to notify the Commissioner of Social Security when certain individuals are removed from the United States under sections 212(a)(6)(A) and 237(a) of the Immigration and Nationality Act (INA) (8 U.S.C. 1182(a)(6)(A) or 1227(a)).

A. Aliens Who Leave the United States, Without Regard to Immigration Proceedings

Resident aliens eligible for SSI may receive payments for any month in which they reside in the United States. For purposes of SSI, the United States means, geographically, the 50 States, the District of Columbia, and the Northern Mariana Islands. 20 CFR 416.1603(c). Under section 1611(f) of the Act, an individual is ineligible for SSI benefits for any month during all of which he or she is outside the United States. 42 U.S.C. 1382(f)(1) and 20 CFR 416.1327. Section 1611(f) of the Act further states that if an individual is absent from the United States for 30 consecutive days, SSA will treat the individual as remaining outside the United States until he or she has been in the United States for a period of 30 consecutive days.

B. Aliens Who Are Removed, Voluntarily Depart, or Voluntarily Return to Their Home Country From the United States

The Social Security Protection Act of 2004, Public Law (Pub. L.) No. 108-203, amended the Act to expand the number of individuals who are subject to nonpayment of Social Security benefits. Thus, section 202(n)(1)(A) of the Act (42 U.S.C. 402(n)(1)(A)) prohibits payment of retirement or disability insurance benefits to number holders (NH) who have been removed from the United States on certain grounds specified under section 237(a) or section 212(a)(6)(A) of the INA (8 U.S.C. 1182(a)(6)(A), 1227(a)). SSA will not pay monthly retirement or disability benefits to such NHs for the month after the month in which the Secretary of Homeland Security notifies SSA of the NH's removal or before the month in which the NH is subsequently lawfully admitted to the United States for permanent residence.

Section 202(n)(1)(B) of the Act (42 U.S.C. 402(n)(1)(B)) prohibits payment of auxiliary or survivors benefits to certain individuals who are entitled to such benefits on the record of a NH who has been removed from the United States on certain grounds as specified in the above paragraph. Nonpayment of benefits is applicable for any month such auxiliary or survivor beneficiary is not a citizen of the United States and is outside the United States for any part of the month. Benefits cannot be initiated (or resumed) to such auxiliary or survivor beneficiaries who are otherwise subject to nonpayment under these provisions until the removed NH has been subsequently lawfully admitted for permanent residence to the United States.

In addition, certain individuals may be subject to suspension of their SSI payments under section 1614(a)(1)(B)(i) of the Act (42 U.S.C. 1382c(a)(1)(B)(i)), which provides, in part, that an SSI recipient must be a resident of the United States. Further, if an SSI recipient is not a United States citizen, 8 U.S.C. 1611 and 1612 provide that an alien who is not a qualified alien within the statutory definitions applicable to those sections is ineligible for SSI benefits, and an alien who is a qualified alien may have limited eligibility.

Purpose(s)

This matching program establishes the conditions under which DHS will disclose information to SSA in order to identify aliens who leave the United States voluntarily and aliens who are removed from the United States. These aliens may be subject to suspension of payments, nonpayments of benefits or both, or recovery of overpayments. SSA will use DHS data to determine if suspension of payments, nonpayment of benefits, or recovery of overpayments is applicable.

Categories of Individuals

The individuals whose information is involved in this matching program are:

Aliens who leave the United States voluntarily and are subject to suspension or non-payment of SSI.

Aliens who are removed from the United States, voluntarily depart, or voluntarily return to their home country from the United States, and are subject to nonpayment of retirement or disability insurance benefits (RSDI). In addition, certain individuals may be subject to suspension of their SSI payments if they are not residents of the United States. If an SSI recipient is not a qualified alien within the statutory definitions, they are ineligible for SSI benefits. An alien who is a qualified alien may have limited eligibility.

Categories of Records

Aliens Who Leave the United States Voluntarily

The data elements furnished by the DHS/U.S. Citizenship and Immigration Service's (USCIS) Benefits Information System (BIS) are the alien's name, SSN, date of birth (DOB), Alien Registration Number (“A” number), date of departure, and expected length of stay. To verify the SSN, SSA will match BIS data against the names, DOB, and SSNs in SSA's Enumeration System. SSA will store and match verified SSNs against the same elements in the SSR files.

Aliens Who Are Removed From the United States

The data elements furnished from DHS/U.S. Immigration and Customs Enforcment's (ICE) Enforcement Integrated Database (EID) are the individual's name and alias (if any), Social Security number (SSN) (if available), DOB, country of birth, country to which removed, date of removal, the final removal charge code, and DHS' “A” number.

To verify the SSN, SSA will match EID data against records in its Enumeration System. SSA matches the verified SSNs against the existing Master Beneficiary Record (MBR) and SSR records to locate removals (and their dependents or survivors, if any) who have already claimed and are currently receiving RSDI, SSI benefits, or both. SSA will retain the data verified through this matching program on the MBR and SSR, to be associated with future claims activity.

System(s) of Records

Aliens Who Leave the United States Voluntarily (SSI)

DHS will disclose to SSA information from the BIS system of records, DHS/USCIS-007, 81 FR 72069 (October 19, 2016). DHS will electronically format the BIS data for transmission to SSA. BIS data is comprised of data collected from USCIS immigration systems. USCIS data used to accomplish this matching agreement currently comes from the CLAIMS 3 database.

SSA will match the DHS information with SSA's systems of records: Master Files of Social Security Number (SSN) Holders and SSN Applications (Enumeration System), 60-0058, last fully published on December 29, 2010 (75 FR 82121), and amended on July 5, 2013 (78 FR 40542), February 13, 2014 (79 FR 8780), July 3, 2018 (83 FR 31250-51), and November 1, 2018 (83 FR 54969).

In addition, SSA will match the DHS information with the Supplemental Security Income Record and Special Veterans Benefits, 60-0103, last fully published on January 11, 2006 (71 FR 1830), and amended on December 10, 2007 (72 FR 69723), July 3, 2018 (83 FR 31250-51), and November 1, 2018 (83 FR 54969).

Aliens Who Are Removed From the United States (RSDI and SSI)

DHS will retrieve information on removed aliens from the DHS/ICE database known as the EID and electronically format it for transmission to SSA, and as covered by DHS/ICE-011—Criminal Arrest Records and Immigration Enforcement Records (CARIER), published October 19, 2016 (81 FR 72080), to the extent that those records pertain to individuals under the Privacy Act or covered persons under the Judicial Redress Act of 2015 (5 U.S.C. 552a, note).

The SSA systems of records used in the match are the Master Files of Social Security Number (SSN) Holders and SSN Applications (Enumeration System), 60-0058, last fully published on December 29, 2010 (75 FR 82121), and amended on July 5, 2013 (78 FR 40542), February 13, 2014 (79 FR 8780), July 3, 2018 (83 FR 31250-51), and November 1, 2018 (83 FR 54969).

The Supplemental Security Income Record and Special Veterans Benefits (SSR), 60-0103, last fully published on January 11, 2006 (71 FR 1830), and amended on December 10, 2007 (72 FR 69723), July 3, 2018 (83 FR 31250-51), and November 1, 2018 (83 FR 54969)

The Master Beneficiary Record (MBR), 60-0090, last fully published on January 11, 2006 (71 FR 1826), and amended on December 10, 2007 (72 FR 69723), July 5, 2013 (78 FR 40542), July 3, 2018 (83 FR 31250-51), and November 1, 2018 (83 FR 54969).

The Prisoner Update Processing System (PUPS), 60-0269, last fully published on March 8, 1999 (64 FR 11076), and amended on December 10, 2007 (72 FR 69723), July 5, 2013 (78 FR 40542), and November 1, 2018 (83 FR 54969).

The Unverified Prisoner System (UPS) is a subsystem of PUPS. UPS users perform a manual search of fallout cases where the Enumeration and Verification System is unable to locate an SSN for an alien who has been removed. Under a separate and existing Interagency Agreement (IAA) between SSA and DHS, SSA has automated access to the DHS Systematic Alien Verification for Entitlements (SAVE) program, DHS-USCIS-004, 81 FR 78619 (November 8, 2016) that utilizes the Verification Information System to confirm naturalized and derived citizenship and immigration status. SSA will use the automated access to the SAVE program to verify current immigration status of aliens where the immediate EID match or any future claims activity indicate that an alien has been removed. The parties do not consider this verification as a separate match subject to the provisions of the Computer Matching and Privacy Protection Act (Pub. L. 100-503); the parties will conduct such verifications in compliance with the terms of the aforementioned IAA.

The systems of records involved in this computer matching program have routine uses permitting the disclosures needed to conduct this match.

[FR Doc. 2019-27010 Filed 12-13-19; 8:45 am]

BILLING CODE 4191-02-P